DEPARTMENT OF THE INTERIOR

Fish and Wildlife Service

[FWS-R2-ES-2019-N155; FXES11130200000-190-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please send your written comments by March 2, 2020.

ADDRESSES:

Document availability: Request documents by phone or email: Susan Jacobsen, 505-248-6641, susan_jacobsen@fws.gov.

Comment submission: Submit comments by U.S. mail to Susan Jacobsen, Classification and Recovery Division, U.S. Fish and Wildlife Service, P.O. Box 1306, Albuquerque, NM 87103. Please specify the permit you are interested in by number (e.g., Permit No. TE-123456).

FOR FURTHER INFORMATION CONTACT: Susan Jacobsen, Chief, Classification and Restoration Division, 505-248-6641.

SUPPLEMENTARY INFORMATION:

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE-798998 | Horizon Environmental Services, Inc.; Austin, Texas | Golden-cheeked warbler (Setophaga chrysoparia); interior least tern (Sterna antillarum athalassos); Houston toad (Bufo houstonensis); American burying beetle (Nicrophorus americanus); ground beetles, no common name (Rhadine exilis and Rhadine infernalis); Helotes mold beetle (Batrisodes venyivi); Cokendolpher Cave harvestman (Texella cokendolpheri); Robber Baron Cave meshweaver (Cicurina baronia); Madla Cave meshweaver (Cicurina madla); Bracken Bat Cave meshweaver (Cicurina venii); Government Canyon Bat Cave meshweaver (Cicurina vespera); Government Canyon Bat Cave spider (Neoleptoneta microps); Tooth Cave spider (Neoleptoneta myopica); Tooth Cave pseudoscorpion (Tartarocreagris texana); Bee Creek Cave harvestman (Texella reddelli); Kretschman Cave mold beetle (Texamaurops reddelli); Tooth Cave ground beetle (Rhadine persephone); Bone Cave harvestman (Texella reyesi); Coffin Cave mold beetle (Batrisodes texanus) | Oklahoma, Texas | Presence/absence surveys, habitat surveys | Capture, harm, harass, injury, death | Renewal.
TE-39186D | Malaney, Jason L.; Albuquerque, New Mexico | New Mexico meadow jumping mouse (Zapus hudsonius luteus) | Arizona, New Mexico | Collection | Capture, collect, harm, harass, injury, death | New.
TE-071287-2 | Christman, Bruce; Albuquerque, New Mexico | New Mexican ridge-nosed rattlesnake (Crotalus willardi obscurus), Narrow-headed gartersnake, Northern Mexican gartersnake (Thamnophis eques megalops), Chiricahua leopard frog (Lithobates chiricahuensis), Jemez Mountains salamander (Plethodon neomexicanus) | Arizona, New Mexico | Presence/absence surveys | Capture, injury, death | Renewal.
TE-078189-1 | Adkins Consulting Inc.; Durango, Colorado | Southwestern Willow flycatcher (Empidonax traillii extimus), Mexican spotted owl (Strix occidentalis lucida) | Arizona, Colorado, New Mexico, Utah | Presence/absence surveys | Harm, harass | Renewal.
TE-36648D | Camba, Matthew O.; Mesa, Arizona | Yellow-billed cuckoo (Coccyzus americanus) | Arizona, California, Colorado, Nevada, New Mexico, Texas, Utah, Wyoming | Presence/absence surveys | Harass, harm | New.
TE-30425B | Hagyari, David; Broken Arrow, Oklahoma | American burying beetle (Nicrophorus americanus) | Arizona, Oklahoma, Texas | Presence/absence surveys | Capture, injury, death | Renewal.
TE-076050 | McAlester Army Ammunition Plant; McAlester, Oklahoma | American burying beetle (Nicrophorus americanus) | Oklahoma | Presence/absence surveys | Capture, injury, death | Renewal.
TE-037155 | Bio-West (Oborny); Roound Rock, Texas | Comal Springs riffle beetle (Heterelmis comalensis), Comal Springs dryopid beetle (Stygoparnus comalensis), Peck's Cave amphipod (Stygobromus (=stygonectes) pecki), southwestern willow flycatcher (Empidonax traillii extimus), Georgetown salamander (Eurycea naufragia), Salado salamander (Eurycea chisholmensis), San Marcos salamander (Eurycea nana), Colorado pikeminnow (Ptychocheilus lucius), Rio Grande silvery minnow (Hybognathus amarus), sharpnose shiner (Notropis oxyrhynchus), smalleye shiner (Notropis buccula),Texas hornshell (Popenaias popeii) | California, Colorado, New Mexico, Nevada, Texas, Utah | Presence/absence surveys, capture, collection | Capture, harass, injury, death | Renewal.
TE-17907C | Landhawk Consulting LLC; Pharr, Texas | Ocelot (Leopardus (=felis) pardalis), Gulf Coast jaguarundi (Herpailurus (=felis) yagouaroundi cacomitli), piping plover (Charadrius melodus), red knot (Calidris canutus rufa), Louisiana pine snake (Pituophis ruthveni), star cactus (Astrophytum asterias), Zapata bladderpod (Lesquerella thamnophila), ashy dogweed (Thymophylla tephroleuca), Walker's manioc (Manihot walkerae), South Texas ambrosia (Ambrosia cheiranthifolia), Slender rush-pea (Hoffmannseggia tenella), Texas snowbells (Styrax texanus), black lace cactus (Echinocereus reichenbachii var. albertii), Tobusch fishhook cactus (Sclerocactus brevihamatus ssp. tobuschii), Houston toad (Bufo houstonensis) | Alabama, Colorado, Florida, Georgia, Louisiana, Maine, Masachusetts, Michigan, Minnesota, New Mexico, North Carolina, North Dakota, Oklahoma, Ohio, South Carolina, Texas | Presence/absence surveys, biomonitoring, habitat assessment, nest monitoring | Harass, harm | Amendment.
TE-232639 | DESCO Environmental Consultants; Magnolia, Texas | American burying beetle (Nicrophorus americanus), red-cockaded woodpecker (Picoides borealis) | Oklahoma, Texas | Presence/absence surveys | Capture, harass, harm, injury, death | Renewal.
TE-13914B | Coons, Justin H.; Skiatook, Oklahoma | American burying beetle (Nicrophorus americanus) | Arkansas, Kansas, Missouri, Nebraska, Oklahoma | Presence/absence surveys | Capture, harm, injury, death | Renewal.
TE-078347 | U.S. Fish and Wildlife Service, Region 2, Cabeza Prienta National Wildlife Refuge; Ajo, Arizona | Sonoran pronghorn (Antilocapra americana sonoriensis) | Arizona | Captive propagation | Capture, harm, harass, injury, death | Renewal.
TE-103314 | Tanner, Jon Matthew; McGregor, Texas | Interior least tern (Sterna antillarum athalassos) | New Mexico, Oklahoma, Texas | Presence/absence surveys | Harass | Renewal.
TE-818118 | Henson, Jeremy; Georgetown, Texas | Texas hornshell (Popenaias popeii), clubshell (Pleurobema clava), fanshell (Cyprogenia stegaria), fat pocketbook (Potamilus capax), Higgins eye (Lampsilis higginsii), northern riffleshell (Epioblasma torulosa rangiana), orangefoot pimpleback (Plethobasus cooperianus), pink mucket (Lampsilis abrupta), purple cat's paw (Epioblasma obliquata obliquata), rayed bean (Villosa fabalis), scaleshell mussel (Leptodea leptodon), sheepnose mussel (Plethobasus cyphyus), snuffbox mussel (Epioblasma triquetra), spectaclecase (Cumberlandia monodonta), white catspaw (Epioblasma obliquata perobliqua) | Arkansas, Illinois, Indiana, Iowa, Kentucky, Louisiana, Michigan, Minnesota, Missouri, New Mexico, New York, Ohio, Oklahoma, Pennsylvania, South Dakota, Tennessee, Texas, Virginia, West Virginia, Wisconsin | Presence/absence surveys | Capture, harm, harrass | Amendment.
TE57462D | Souther, Sara; Flagstaff, Arizona | Kearney's blue-star (Amsonia kearneyana) | Arizona | Breeding system assessment, structured seed augmentation, species introduction | Harm, death | New.
TE57474D | Lassiter, Timonthy; Boerne, Texas | Golden-cheeked warbler (Setophaga chrysoparia) | Texas | Presence/absence surveys | Harm, harass | New.
TE57474D | Putnam, Stephanie; Austin, Texas | Golden-cheeked warbler (Setophaga chrysoparia) | Texas | Presence/absence surveys | Harm, harass | New.
TE236730 | Bonner, Timothy; San Marcos, Texas | Comal Springs riffle beetle (Heterelmis comalensis), Devils River minnow (Dionda diaboli), fountain darter (Etheostoma fonticola), San Marcos salamander (Eurycea nana), San Marcos gambusia (Gambusia georgei), Texas wild-rice (Zizania texana) | Texas | Presence/absence surveys | Harm, harass | Renewal.
TE40886B | Biological Resources, LLC; Durango, Colorado | Black-footed ferret (Mustela nigripes), southwestern willow flycatcher (Empidonax traillii extimus), Mexican spotted owl (Strix occidentalis lucida), New Mexico meadow jumping mouse (Zapus hudsonius luteus) | Arizona, Colorado, New Mexico, Texas, Utah | Presence/absence surveys | Harm, harass | Renewal.
TE37416B | Cambrian Environmental; Austin, Texas | Houston toad (Bufo houstonensis), San Marcos salamander (Eurycea nana), Texas blind salamander (Typhlomolge rathbuni) | Texas | Presence/absence surveys, monitor, capture, handle, measure | Harm, harass | Renewal.
TE43754A | Turner Endangered Species Fund; Bozeman, Montana | Chiricahua leopard frog (Rana chiricahuensis), Chupadera springsnail (Pyrgulopsis chupaderae) | New Mexico | Presence/absence surveys | Harm, harass | Renewal.
TE57477D | WSP|Parsons Brinckerhoff; Albuquerque, New Mexico | Southwestern willow flycatcher (Empidonax traillii extimus), Mexican spotted owl (Strix occidentalis lucida), Chiricahua leopard frog (Rana chiricahuensis), yellow-billed cuckoo (Coccyzus americanus), Jemez Mountains salamander (Plethodon neomexicanus) | Arizona, California, Nevada, New Mexico | Presence/absence surveys | Harm, harass | New.
TE800900 | Lower Colorado River Authority; Austin, Texas | Golden-cheeked warbler (Setophaga chrysoparia), interior least tern (Sterna antillarum athalassos), Houston toad (Bufo houstonensis), southwestern willow flycatcher (Empidonax traillii extimus), piping plover (Charadrius melodius) | Texas | Presence/absence surveys | Harm; harass | Renewal.
TE819491 | Ecosphere Environmental; Durango, Colorado | Southwestern willow flycatcher (Empidonax traillii extimus), Mexican spotted owl (Strix occidentalis lucida), Chiricahua leopard frog (Rana chiricahuensis), yellow-billed cuckoo (Coccyzus americanus), black-footed ferret (Mustela nigripes) | Arizona, Colorado, New Mexico, Texas, Utah | Presence/absence surveys | Harm, harass | Renewal.
TE08394B | USFS, Apache-Sitgreaves National Forest; Springerville, Arizona | Southwestern willow flycatcher (Empidonax traillii extimus), Mexican spotted owl (Strix occidentalis lucida), Chiricahua leopard frog (Rana chiricahuensis), Gila chub (Gila intermedia), spikedace (Mega fulgida), loach minnow (Tiaroga cobitis), razorback sucker (Xyrauchen texanus), Three Forks springsnail (Pyrgulopsis trivialis) | Arizona | Presence/absence surveys | Harm, harass | Renewal.
TE942425B | Powers, Jarrod; Stillwater, Oklahoma | Neosho mucket (Lampsilis rafinesqueana), Ouachita rock pocketbook (Arkansia wheeleri), scaleshell (Leptodea leptodon), winged mapleleaf (Quadrula fragosa) | Oklahoma | Presence/absence surveys | Harm, harass | Amendment.
TE160521 | Tetra Tech; Salt Lake City, Utah | Southwestern willow flycatcher (Empidonax traillii extimus) | Arizona, Colorado, Montana, New Mexico, Wyoming, Utah | Presence/absence surveys | Harass | Renewal.
TE44542B | Olsson Associates; Oklahoma City, Oklahoma | Gray bat (Myotis griscescens), Neosho mucket (Lampsilis rafinesqueana) | Illinois, Indiana, Missouri | Presence/absence surveys | Harm/harass | Amendment.
TE59346D | Johnson, Matthew; Austin, Texas | Freshwater mussel spp | Iowa, Maryland, Michigan, Minnesota, Missouri, New York, North Carolina, Pennsylvania, Tennessee, Texas, Wisconsin | Presence/absence surveys | Harm/harass | New.
TE103314 | Tanner, Matthew; McGregor, Texas | Least tern (Sterna antillarum athalassos) | Oklahoma, New Mexico, and Texas | Presence/absence surveys | Harass | Renewal.
TE59554D | Stanek, Jenna; Los Alamos, New Mexico | Southwestern willow flycatcher (Empidonax traillii extimus) | New Mexico | Presence/absence surveys | Harass | New.
TE053085 | Bureau of Reclamation, Boulder City, Nevada | Southwestern willow flycatcher (Empidonax traillii extimus), bonytail chub (Gila elegans), razorback sucker (Xyrauchen texanus) | Arizona | Presence/absence surveys | Harm/harass | Renewal.
TE819451 | Travis County Transportation and Natural Resources | Golden-cheeked warbler (Setophaga chrysoparia), Karst spp | Texas | Presence/absence surveys | Harm/harass | Renewal.
TE822908 | Caesar Kleburg Wildlife Research Institute; Kingsville, Texas | Ocelot (Lepardus (=Felis) pardalis), jaguarundi (Herpailurus yogauroundi) | Texas | Collect blood, semen samples, and fecal materials | Harm/harass | Renewal.
TE59909D | Bell, Leslie; Austin, Texas | Karst spp | Texas | Presence/absence surveys | Harm/harass | New.
TE060125 | Salt River Project Agricultural Improvement and Power District; Phoenix, Arizona | Southwestern willow flycatcher (Empidonax traillii extimus) | Arizona | Presence/absence surveys | Harm/harass | Renewal.
TE63216D | Porter, James Mark; Claremont, California | Sneed pincushion cactus (Coryphantha [Escobaria] sneedii) | New Mexico, Texas | Seed collection | Harm | New.
TE63430D | Hamilton, Gregor; Albuquerque, New Mexico | spikedace (Meda fulgida), loach minnow (Tiaroga cobitis) | New Mexico | Presence/absence surveys, collect scale clips | Harm, harass | New.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA (16 U.S.C. 1531 et seq.).

Dated: January 27, 2020.
Amy L. Lueders,
Regional Director, Southwest Region, U.S. Fish and Wildlife Service.

[FR Doc. 2020-01862 Filed 1-30-20; 8:45 am]

BILLING CODE 4333-15-P